DEPARTMENT OF LABOR

Employment and Training Administration

Comment Request for Form ETA-9141, Application for Prevailing Wage Determination and Other Information Collections for Determining Prevailing Wages in Foreign Labor Certification Programs (OMB Control Number 1205-0508), Extension

AGENCY: Employment and Training Administration, Labor.

ACTION: Notice.

SUMMARY: The Department of Labor (DOL or Department), as part of its continuing effort to reduce paperwork and respondent burden, conducts a preclearance consultation program to provide the public and Federal agencies with an opportunity to comment on proposed and/or continuing collections of information in accordance with the Paperwork Reduction Act of 1995 (44 U.S.C. 3506(c)(2)(A)). This program helps ensure that requested data can be provided in the desired format, reporting burden (time and financial resources) is minimized, collection instruments are clearly understood, and the impact of collection requirements on respondents can be properly assessed.

Currently, the Employment and Training Administration (ETA) is soliciting comments concerning the Form ETA-9141, Application for Prevailing Wage Determination and other information collections for determining prevailing wages in foreign labor certification programs in OMB Control Number 1205-0508. The form and all information collections in this control number expire on March 31, 2016. A copy of the proposed information collection request can be obtained free of charge by contacting the office listed below in the addressee section of this notice.

DATES: Written comments must be submitted to the office listed in the addresses section below on or before February 8, 2016.

ADDRESSES: Submit written comments to Renata Adjibodou, Center Director, Office of Foreign Labor Certification, Suite 12-100, Employment & Training Administration, U.S. Department of Labor, 200 Constitution Avenue NW., Washington, DC 20210. Telephone number: 202-513-7350 (this is not a toll-free number). Individuals with hearing or speech impairments may access the telephone number above via TTY by calling the toll-free Federal Information Relay Service at 1-877-889-5627 (TTY/TDD). Fax: 202-513-7495. Email: ETA.OFLC.Forms@dol.gov subject line: ETA-9141. A copy of the proposed information collection request (ICR) can be obtained free of charge by contacting the office listed above.

SUPPLEMENTARY INFORMATION:

I. Background

The information collection (IC) is required by sections 203(b)(3); 212(a)(5)(A); 212(m), (n), (p), (t); and 214(c) of the Immigration and Nationality Act (INA) (8 U.S.C. 1153(b)(3); 1182(a)(5)(A); 1182(m), (n), (p), (t); and 1184(c)) and 8 CFR 214.2(h). The INA requires the Secretary of Labor to certify, among other things, that any foreign worker seeking to enter the United States (U.S.) for the purpose of performing certain skilled or unskilled labor temporarily or permanently will not, by doing so, adversely affect wages and working conditions of U.S. workers similarly employed. Before the Secretary of Labor can certify that wages for U.S. workers have not been adversely affected, he must ensure that the wages being paid the foreign workers are the same as those being offered and paid to U.S. workers.

The information contained in the Form ETA-9141 is the basis for the Secretary's determination of the wage employers must pay foreign workers to protect against an adverse effect on wages as a result of the employment of a foreign worker. Prior to submitting requests for most labor certifications or a labor condition applications to the Secretary of Labor, employers must obtain a prevailing wage for the job opportunity based on the place of employment in order to ensure that U.S. workers' wages are not being adversely affected by paying foreign workers less than the prevailing wage. Form ETA-9141, Application for Prevailing Wage Determination, is used to collect the necessary information from employers to enable the Department to issue a prevailing wage for the occupation and location of the job offer. The Form ETA-9141 is used in the H-2B, H-1B, H-1B1, E-3, and PERM programs administered by the Department. The Department is not proposing any changes to the collection and is requesting a three year extension.

II. Review Focus

DOL is particularly interested in comments that:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

III. Current Actions

Type of Review: Extension.

Title: Application for Prevailing Wage Determination.

OMB Number: 1205-0508.

Affected Public: Individuals or Households, Private Sector—businesses or other for profits, Government, State, Local and Tribal Governments.

Form(s): ETA-9141, Application for Prevailing Wage Determination.

Total Annual Respondents: 520,452.

Annual Frequency: On Occasion.

Total Annual Responses: 996,585.

Average Time per Response: Various.

Estimated Total Annual Burden Hours: 448,349.

Total Annual Burden Cost for Respondents: $0.

Comments submitted in response to this comment request will be summarized and/or included in the request for OMB approval of the ICR; they will also become a matter of public record. Commenters are encouraged not to submit sensitive information (e.g., confidential business information or personally identifiable information such as a social security number).

Portia Wu,
Assistant Secretary for Employment and Training, Labor.

[FR Doc. 2015-31117 Filed 12-9-15; 8:45 am]

BILLING CODE 4510-FP-P